DEPARTMENT OF AGRICULTURE

Forest Service

Southwest Idaho Resource Advisory Committee

AGENCY: Forest Service, USDA.

ACTION: Notice of meeting.

SUMMARY: Pursuant to the authorities in the Federal Advisory Committee Act (Pub, L 92-463) and under the Secure Rural Schools and Community Self-Determination Act of 2000, as amended, (Pub. L 110-343), the Boise, Payette, Salmon-Challis, and Sawtooth National Forests' Southwest Idaho Resource Advisory Committee will conduct a business meeting. The meeting is open to the public.

DATES: Thursday, May 26, 2011, beginning at 9 a.m.

ADDRESSES: Valley County Emergency Operations Center, 108 Spring Street, Cascade, Idaho.

SUPPLEMENTARY INFORMATION: Agenda topics will include review and approval of project proposals for FY 2012 funding, and is an open public forum.

FOR FURTHER INFORMATION CONTACT: Kim Pierson, Designated Federal Official, at (208) 347-0301 or e-mail kpierson@fs.fed.us.

Dated: April 27, 2011.
Michael R. Williams,
Acting Forest Supervisor, Payette National Forest.

[FR Doc. 2011-10821 Filed 5-3-11; 8:45 am]

BILLING CODE 3410-11-P